DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before February 15, 2002.

ADDRESSES COMMENTS TO: Records Center, Research and Special Programs, Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW., Washington, DC or at http://dms.dot.gov.

This notice of receipt of applications for modification of exemptions is published in accordance with part 107 of the Federal hazardous materials transportation law (49 U.S.C. 5117(b); 49 CFR 1.53(b)).

Issued in Washington, DC, on January 25, 2002.
R. Ryan Posten,
Exemptions Program Officer, Office of Hazardous Materials, Exemptions and Approvals.

Application No. | Docket No. | Applicant | Modification of Exemption
7657-M |  | Welker Engineering Company, SugarLand, TX (see Footnote 1) | 7657
9221-M |  | Applied Companies, Valencia, CA (See Footnote 2) | 9221
9880-M |  | GE Reuter-Stokes, Twinsburg, OH (See Footnote 3) | 9880
9940-M |  | GE Reuter-Stokes, Twinsburg, OH (See Footnote 4) | 9940
11316-M |  | TRW Automotive Occupant Safety Systems, Queen Creek, AZ (See Footnote 5) | 11316
11803-M |  | Chart, Inc. (Storage Systems Div.), Plaistow, NH (See Footnote 6) | 11803
12339-M | RSPA-99-6201 | Air Products and Chemicals, Inc., Allentown, PA (See Footnote 7) | 12339
12866-M | RSPA-01-11096 | Delta Air Lines (Technical Operations Center), Atlanta, GA (See Footnote 8) | 12866
12885-M | RSPA-01-11209 | United States Dept. of Agriculture, Missoula, MT (See Footnote 9) | 12885
(1) To modify the exemption to authorize the transportation of an additional Division 2.3 material in non-DOT specification cylinders.
(2) To modify the exemption to authorize cargo vessels as an additional mode for transporting Division 2.2 materials in non-DOT specification stainless steel cylinders.
(3) To modify the exemption to authorize the transportation of an additional Division 2.2 material in non-DOT specification containers described as hermetically sealed electron tube devices.
(4) To modify the exemptions to authorize the transportation of an additional 2.2 materials in non-DOT specification containers described as hermetically sealed electron tube devices.
(5) To modify the exemption to authorize the transportation of a Division 1.4G and additional 1.4S material for shipment to additional TRW facilities and to increase quantity of power devices or igniters per tray from 16 to 36.
(6) To modify the exemption to authorize an increase of the maximum gross weight on rail from 263,000 lbs. to 286,000 lbs. for the transportation of Division 2.2 materials in DOT Specification tank cars.
(7) To modify the exemption to authorize the transportation of an additional Division 2.3 material in DOT Specification 3AL aluminum cylinders via cargo vessel.
(8) To reissue the exemption orginally issued on an emergency basis and to remove certain special provisions/requirements for the non-DOT specification cylinders containing Division 2.2 materials that have inadvertently been mis-marked.
(9) To reissue the exemption orginally issued on an emergency basis for the transportation of gasoline in a non-DOT specification steel drum with a pump installed mounted in a helitorch frame.

[FR Doc. 02-2353 Filed 1-30-02; 8:45 am]

BILLING CODE 4910-60-M